DEPARTMENT OF COMMERCE

International Trade Administration

[A-428-840]

Lightweight Thermal Paper From Germany: Preliminary Results of the First Full Sunset Review of the Antidumping Duty Order

AGENCY: Enforcement and Compliance, formerly Import Administration, International Trade Administration, Department of Commerce.

-

SUMMARY: On October 1, 2013, the Department of Commerce (the Department) initiated the first five-year (sunset) review of the antidumping duty (AD) order on lightweight thermal paper from Germany pursuant to section 751(c) of the Tariff Act of 1930, as amended (the Act).¹ On the basis of adequate substantive responses submitted by domestic and respondent interested parties, the Department is conducting a full sunset review of this AD order pursuant to section 751(c) of the Act and 19 CFR 351.218(e)(2). As a result of our analysis, the Department preliminarily finds that revocation of the AD order would likely lead to continuation or recurrence of dumping at the levels indicated in the “Preliminary Results of Review” section of this notice. Interested parties are invited to comment on these preliminary results.

¹ See Initiation of Five-Year (“Sunset”) Review, 78 FR 60253 (October 1, 2013) (Sunset Initiation).

DATES: Effective February 10, 2014.

FOR FURTHER INFORMATION CONTACT: David Goldberger, AD/CVD Operations, Office II, Enforcement and Compliance, U.S. Department of Commerce, 14th Street and Constitution Avenue NW., Washington, DC 20230; telephone: (202) 482-4136.

SUPPLEMENTARY INFORMATION:

Background

On October 1, 2013, the Department initiated the first sunset review of the AD order on lightweight thermal paper from Germany pursuant to section 751(c) of the Act.² On October 28, 2013, the Department received a notice of intent to participate from Appvion, Inc. (Appvion ³), a domestic manufacturer of lightweight thermal paper within the 15-day deadline specified in 19 CFR 351.218(d)(1)(i).⁴

² See Sunset Initiation.

³ Appvion (formerly Appleton Papers) was the petitioner in the original investigation of lightweight thermal paper from Germany. See Lightweight Thermal Paper from Germany: Notice of Final Determination of Sales at Less Than Fair Value, 73 FR 57326 (October 2, 2008) (LTFV Final).

⁴ As explained in the memorandum from the Assistant Secretary for Enforcement and Compliance, the Department exercised its discretion to toll deadlines for the duration of the closure of the Federal Government from October 1, through October 16, 2013. See Memorandum for the Record from Paul Piquado, Assistant Secretary for Enforcement and Compliance, “Deadlines Affected by the Shutdown of the Federal Government” (October 18, 2013). Therefore, all deadlines in this sunset review have been extended by 16 days.

On November 18, 2013, the Department received substantive responses from Appvion and Papierfabrik August Koehler SE (Koehler), a German producer of lightweight thermal paper, within the 30-day deadline specified in 19 CFR 351.218(d)(3)(i). The Department received rebuttal comments from Appvion and Koehler on November 25, 2013 in accordance with 19 CFR 351.218(d)(4).

On December 4, 2013, the Department issued its adequacy determination memorandum. The Department found that Appvion and Koehler submitted adequate substantive responses. As a result, the Department is conducting a full sunset review of this AD order.⁵ The Department did not receive comments on the adequacy determination memorandum from any party to this review.

⁵ See Memorandum from Team to James Maeder, Director, Antidumping and Countervailing Duty Operations, Office II, titled “Adequacy Determination in Five-Year `Sunset' Review of the Antidumping Duty Order on Lightweight Thermal Paper from Germany (2008-2012)” (December 4, 2013).

Scope of the Order

The merchandise covered by the order is lightweight thermal paper. The merchandise subject to the order is currently classified under the following Harmonized Tariff Schedule of the United States (HTSUS) subheadings: 3703.10.60, 4811.59.20, 4811.90.8000, 4811.90.8030, 4811.90.8040, 4811.90.8050, 4811.90.9000, 4811.90.9030, 4811.90.9035, 4811.90.9050, 4811.90.9080, 4811.90.9090, 4820.10.20, and 4823.40.00. While the HTSUS subheadings are provided for convenience and customs purposes, the written description of the scope of the order is dispositive.

For a full description of the scope, see “Preliminary Results Issues and Decision Memorandum for the Full Sunset Review of the Antidumping Duty (AD) Order on Lightweight Thermal Paper from Germany,” dated concurrently with this notice (Decision Memorandum).

Analysis of Comments Received

All issues raised in this review are addressed in the Decision Memorandum, dated concurrently with this preliminary notice, which is hereby adopted by this notice. The issues discussed in the accompanying Decision Memorandum include the likelihood of the continuation of dumping, the magnitude of the margin likely to prevail, and good cause to examine other factors. Parties can find a complete discussion of all issues raised in this full sunset review and the corresponding recommendations in this public memorandum, which is on file in the Department's Central Records Unit. In addition, a complete version of the Decision Memorandum can be accessed at http://enforcement.trade.gov/frn/index.html. The paper copy and electronic version of the Decision Memorandum are identical in content.

Preliminary Results of Review

We preliminarily determine that revocation of the AD order on lightweight thermal paper from Germany would be likely to lead to continuation or recurrence of dumping at the following weighted-average margins:

Manufacturer/exporter | Margin (percent)
Koehler | 6.50
All Others | 6.50

Interested parties may submit case briefs no later than 50 days after the date of publication of the preliminary results of this full sunset review, in accordance with 19 CFR 351.309(c)(1)(i). Rebuttal briefs, which must be limited to issues raised in the case briefs, may be filed not later than the five days after the time limit for filing case briefs in accordance with 19 CFR 351.309(d).

Any interested party may request a hearing within 30 days of publication of this notice in accordance with 19 CFR 351.310(c). A hearing, if requested, will be held on a date to be determined.

The Department intends to issue a notice of final results of this full sunset review, which will include the results of its analysis of issues raised in any briefs, no later than May 29, 2014.

We are issuing and publishing the preliminary results and notice of this full sunset review in accordance with sections 751(c), 752(c), and 777(i)(1) of the Act and 19 CFR 351.218(f)(1).

Dated: February 4, 2014.
Paul Piquado,
Assistant Secretary for Enforcement and Compliance.

[FR Doc. 2014-02838 Filed 2-7-14; 8:45 am]

BILLING CODE 3510-DS-P